DEPARTMENT OF THE TREASURY

Office of Foreign Assets Control

Designation of Additional Entities Pursuant to Executive Order 13405

ACTION: Notice.

SUMMARY: The Treasury Department's Office of Foreign Assets Control (“OFAC”) is publishing the names of four newly-designated entities whose property and interests in property are blocked pursuant to Executive Order 13405 of June 16, 2006, “Blocking Property of Certain Persons Undermining Democratic Processes or Institutions in Belarus.”

DATES: The designation by the Director of OFAC of the four entities identified in this notice, pursuant to Executive Order 13405, is effective August 11, 2011.

FOR FURTHER INFORMATION CONTACT: Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (http://www.treasury.gov/ofac) or via facsimile through a 24-hour fax-on-demand service, Tel.: 202/622-0077.

Background

On June 16, 2006, the President issued Executive Order 13405 (the “Order”) pursuant to, inter alia, the International Emergency Economic Powers Act (50 U.S.C. 1701-06). In the Order, the President declared a national emergency to address political repression, electoral fraud, and public corruption in Belarus. The Order imposes economic sanctions on persons responsible for actions or policies that undermine democratic processes or institutions in Belarus. The President identified ten individuals as subject to the economic sanctions in the Annex to the Order.

Section 1 of the Order blocks, with certain exceptions, all property, and interests in property, that are in, or hereafter come within, the United States or the possession or control of United States persons for persons listed in the Annex and those persons determined by the Secretary of the Treasury, after consultation with the Secretary of State, to satisfy any of the criteria set forth in subparagraphs (a)(ii)(A) through (a)(ii)(E) of Section 1.

On August 11, 2011, the Director of OFAC, in consultation with the Secretary of State, designated, pursuant to one or more of the criteria set forth in Section 1, subparagraphs (a)(ii)(A) through (a)(ii)(E) of the Order, the following four entities, whose names have been added to the list of Specially Designated Nationals and whose property and interests in property are blocked, pursuant to Executive Order 13405:

1. BELSHINA OAO (a.k.a. BELSHINA OJSC; a.k.a. BELSHINA TYRE WORKS OAO; a.k.a. JSC BELSHINA; f.k.a. RUP BELORUSSKY SHINNY KOMBINAT BELSHINA), Minsk Highway Bobruisk, 213824, Mogilev Region, Belarus; Minskoye schosse Bobruisk 213824, Mogilevskaya oblast, Belarus; Minsk Highway, Bobruisk, Mogilev region, Belarus; [BELARUS]

2. GRODNO AZOT OAO (a.k.a. GRODNO AZOT; f.k.a. GPO AZOT OJSC; f.k.a. GRODNESKOYE PROZVODSTVENNOYE OBYEDINENYE AZOT; f.k.a. RUP GRODNENSKOYE PO AZOT; f.k.a. RUP GPO AZOT), 100 Kosmonavtov Avenue, 230013, Grodno, Belarus; 100 Kosmonavtov pr., 230013, Grodno, Belarus; Prospekt Kosmanovtov 100, 230013, Grodno, Belarus; [BELARUS]

3. GRODNO KHIMVOLOKNO OAO (a.k.a. JSC GRODNO KHIMVOLOKNO; a.k.a. GRODNO KHIMVOLOKNO JSC; a.k.a. GRODNO CHEMICAL FIBRE OJSC), 4 Slavinskogo Street, 230026, Grodno, Belarus; ulitsa Slavinskogo 4, 230026, Grodno, Belarus; str. Slavinskogo 4, 230026, Grodno, Belarus; [BELARUS]

4. NAFTAN OAO (a.k.a. NAFTAN OJSC; a.k.a. NAFTAN; f.k.a. NAFTAN PROIZVODSTVENNOYE OBYEDINENYE; f.k.a. NAFTAN PRODUCTION ASSOCIATION), Industrial Area, Novopolotsk-1, 211440, Vitebsk Region, Belarus; Novopolotsk, 21140, Vitebsk region, Belarus; Novopolotsk, 211440, Vitebskaya Oblast, Belarus; [BELARUS]

Dated: August 11, 2011.
Adam J. Szubin,
Director, Office of Foreign Assets Control.

[FR Doc. 2011-21376 Filed 8-19-11; 8:45 am]

BILLING CODE 4810-AL-P